DEPARTMENT OF COMMERCE

National Oceanic and Atmospheric Administration

Climate Change Science Program (CCSP) Product Development Committee (CPDC) for Synthesis and Assessment Product 5.3

ACTION: Notice to establish the National Oceanic and Atmospheric Administration (NOAA) Climate Change Science Program (CCSP) Product Development Committee (CPDC) for Synthesis and Assessment Product 5.3 (CPDC-S&A 5.3) under the provisions of the Federal Advisory Committee Act.

SUMMARY: In accordance with the provisions of the Federal Advisory Committee Act, 5 U.S.C. App. 2, and the General Services Administration (GSA) rule of Federal Advisory Committee Management, 41 CFR part 102-3, and after consultation with GSA, the Secretary of Commerce has determined that the establishment of the National Oceanic and Atmospheric Administration (NOAA) Climate Change Science Program (CCSP) Product Development Committee (CPDC) for Synthesis and Assessment Product 5.3 (CPDC-S&A 5.3) is in the public interest, in connection with the performance of duties imposed on the Department by law. The CPDC-S&A 5.3 will advise the Secretary, through the Under Secretary of Commerce for Oceans and Atmosphere, on CCSP Topic 5.3: “Decision Support Experiments and Evaluations using Seasonal to Interannual Forecasts and Observational Data”. This advice will be provided in the form of a draft Synthesis and Assessment product intended to be used by NOAA to develop a final product in accordance with the Guidelines for Producing the CCSP Synthesis and Assessment Products, the OMB Peer Review Bulletin, and the Information Quality Act Guidelines. The CPDC-S&A 5.3 will consist of no more than 30 members to be appointed by the Under Secretary to assure a balanced representation among preeminent scientists, educators, and experts reflecting the full scope of the scientific issues addressed in CCSP Synthesis and Assessment Product 5.3. The CPDC—S&A 5.3 will function solely as an advisory body, and in compliance with the provisions of the Federal Advisory Committee Act. Its charter will be filed under the Act, fifteen days from the date of publication of this notice.

FOR FURTHER INFORMATION CONTACT: Dr. Nancy Beller-Simms, Program Manager, NOAA/OAR/Climate Program Office, Sectoral Applications Research Program, 1100 Wayne Avenue, Suite 1210, Silver Spring, Maryland 20910; telephone 301-427-2351, e-mail: Nancy.Beller-Simms@noaa.gov.

Dated: September 12, 2006.
Mark E. Brown,
Chief Financial Officer, Office of Oceanic and Atmospheric Research, National Oceanic and Atmospheric Administration.

[FR Doc. E6-15472 Filed 9-15-06; 8:45 am]

BILLING CODE 3510-22-P